DEPARTMENT OF HEALTH AND HUMAN SERVICES

Administration for Children and Families

Submission for OMB Review; Comment Request

Title: Performance Progress Reports for Administration for Children and Families.

OMB No.: 0970-New.

Description: This notice is to solicit comment on the proposed generic information collection request that will be used for Administration for Children and Families to collect performance and progress information from grantees. The narratives and data will be used to determine if grantees are proceeding in a satisfactory manner in meeting the approved goals and objectives of the project, and if funding should be continued for another budget period.

These reports will be in compliance with the Department of Health and Human Service regulations at 45 CFR 75.342, Monitoring and reporting program performance.

Respondents: State and nonprofit grantees.

Annual Burden Estimates
Instrument | Number of respondents | Number of responses per respondent | Average burden hours per response | Total burden hours
PPR | 2,000 | 2 | 1 | 4,000

Estimated Total Annual Burden Hours: 4,000 hours.

Additional Information: Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV. Attn: Desk Officer for the Administration for Children and Families.

Robert Sargis,
Reports Clearance Officer.

[FR Doc. 2016-20089 Filed 8-22-16; 8:45 am]

BILLING CODE 4184-01-P